ENVIRONMENTAL PROTECTION AGENCY

[EPA-HQ-OPP-2008-0723; FRL-8828-4]

Methidathion; Cancellation Order for Pesticide Registrations

AGENCY: Environmental Protection Agency (EPA).

ACTION: Notice.

SUMMARY: This notice announces EPA's order for the cancellations, voluntarily requested by the registrants and accepted by the Agency, of products containing methidathion, pursuant to section 6(f)(1) of the Federal Insecticide, Fungicide, and Rodenticide Act (FIFRA), as amended. This cancellation order follows a April 7, 2010, Federal Register notice of receipt of requests from the registrants listed in Unit II., Table 2, of this notice, to voluntarily cancel these product registrations. These are the last products containing this pesticide registered for use in the United States. In the April 7, 2010 notice, EPA indicated that it would issue an order implementing the cancellations, unless the Agency received substantive comments within the 30 day comment period that would merit its further review of these requests, or unless the registrants withdrew their requests. The Agency did not receive any comments on the notice. Further, the registrants did not withdraw their requests. Accordingly, EPA hereby issues in this notice, a cancellation order granting the requested cancellations. Any distribution, sale, or use of the products subject to this cancellation order is permitted only in accordance with the terms of this order, including any existing stock provisions.

DATES: The cancellations are effective December 30, 2012.

FOR FURTHER INFORMATION CONTACT: Jose Gayoso, Pesticide Re-evaluation Division (7508P), Office of Pesticide Programs, Environmental Protection Agency, 1200 Pennsylvania Ave., NW., Washington, DC 20460-0001; telephone number: (703) 347-8652; fax number: (703) 308-8005; e-mail address: gayoso.jose@epa.gov.

SUPPLEMENTARY INFORMATION:

I. General Information

A. Does this Action Apply to Me?

This action is directed to the public in general and may be of interest to a wide range of stakeholders including environmental, human health, agricultural advocates, the chemical industry, pesticide users, and members of the public interested in the sale, distribution, or use of pesticides. Since others may also be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2008-0723. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation for this Docket Facility are from 8:30 a.m. to 4 p.m., Monday through Friday, excluding legal holidays. The Docket Facility telephone number is (703) 305-5805.

II. What Action is the Agency Taking?

This notice announces the cancellations, as requested by registrants, of products registered under section 3 of FIFRA. These registrations are listed in sequence by registration number in Table 1 of this unit.

Table 1.—Methidathion Product Cancellations
Registration Number | Product Name | Chemical Name
100-530 | Methidathion Technical | Methidathion
10163-236 | Supracide 2E Insecticide | Methidathion
10163-244 | Supracide 25-W | Methidathion
10163-245 | Methidathion Technical | Methidathion
10163-AZ-00-0005 | Supracide 2E Insecticide | Methidathion
10163-CA-01-0002 | Supracide 2E Insecticide | Methidathion
10163-CA-01-0009 | Supracide 25-W | Methidathion
10163-CA-01-0011 | Supracide 25-W | Methidathion
10163-CA-02-0002 | Supracide 2E Insecticide | Methidathion
10163-CA-04-0023 | Supracide 2E Insecticide | Methidathion
10163-CO-01-0003 | Supracide 2E Insecticide | Methidathion
10163-FL-99-0013 | Supracide 25-W | Methidathion
10163-ID-00-0005 | Supracide 2E Insecticide | Methidathion
10163-ID-04-0007 | Supracide 2E Insecticide | Methidathion
10163-KS-05-0006 | Supracide 2E Insecticide | Methidathion
10163-MT-00-0008 | Supracide 2E Insecticide | Methidathion
10163-NV-00-0001 | Supracide 2E Insecticide | Methidathion
10163-NV-01-0001 | Supracide 2E Insecticide | Methidathion
10163-OK-05-0003 | Supracide 2E Insecticide | Methidathion
10163-OR-00-0010 | Supracide 2E Insecticide | Methidathion
10163-OR-02-0018 | Supracide 2E Insecticide | Methidathion
10163-TX-05-0003 | Supracide 2E Insecticide | Methidathion
10163-UT-00-0006 | Supracide 2E Insecticide | Methidathion
10163-WA-00-0006 | Supracide 2E Insecticide | Methidathion
10163-WY-05-0001 | Supracide 2E Insecticide | Methidathion

Table 2 of this unit includes the names and addresses of record for all registrants of the products in Table 1 of this unit in sequence by EPA company number. This number corresponds to the first part of the EPA registration numbers of the products listed in Table 1 of this unit.

Table 2.—Registrants of Cancelled Products
EPA Company Number | Company Name and Address
000100 | Syngenta Crop Protection, Inc., P. O. Box 18300, Greensboro, NC 27419-8300
010163 | Gowan Company, P. O. Box 5569, Yuma, AZ 85366-5569

III. Summary of Public Comments Received and Agency Response to Comments

During the public comment period provided, EPA received no comments in response to the April 7, 2010 Federal Register notice (75 FR 17735; FRL-8819-1) announcing the Agency's receipt of the requests for voluntary cancellations of products listed in Unit II., Table 1.

IV. Cancellation Order

Pursuant to FIFRA section 6(f), EPA hereby approves the requested cancellations of methidathion registrations identified in Unit II., Table 1. Accordingly, the Agency hereby orders that the product registrations identified in Unit II., Table 1 are canceled. The effective date of the cancellations that are the subject of this notice is December 30, 2012. Any distribution, sale, or use of existing stocks of the products identified in Unit II., Table 1, in a manner inconsistent with any of the provisions for disposition of existing stocks set forth in Unit VI. of this notice will be a violation of FIFRA.

V. What is the Agency's Authority for Taking this Action?

Section 6(f)(1) of FIFRA provides that a registrant of a pesticide product may, at any time, request that any of its pesticide registrations be canceled or amended to terminate one or more uses. FIFRA further provides that, before acting on the request, EPA must publish a notice of receipt of the request in the Federal Register. Thereafter, following the public comment period, the EPA Administrator may approve such a request. The notice of receipt for this action was published for comment on April 7, 2010. The comment period closed on May 7, 2010.

VI. Provisions for Disposition of Existing Stocks

Existing stocks are those stocks of registered pesticide products which are currently in the United States and were packaged, labeled, and released for shipment prior to the effective date of the action. The existing stock provisions for the products subject to this order are as follows:

After December 31, 2012, registrants are prohibited from selling or distributing existing stocks of products containing methidathion labeled for all uses.

After December 31, 2014, persons other than registrants are prohibited from selling or distributing existing stocks of products containing methidathion labeled for all uses.

After December 31, 2014, existing stocks of products containing methidathion labeled for all uses, already in the hands of users can be used legally until they are exhausted, provided that the use complies with the EPA approved label and labeling of the affected product.

List of Subjects

Environmental protection, Pesticides and pests.

Dated: May 21, 2010.
Richard P. Keigwin, Jr.,
Director, Pesticide Re-evaluation Division, Office of Pesticide Programs.

[FR Doc. 2010-12925 Filed 6-1-10; 8:45 am]

BILLING CODE 6560-50-S